DEPARTMENT OF VETERANS AFFAIRS

[OMB Control No. 2900-New]

Agency Information Collection: Emergency Submission for OMB Review; Comment Request

AGENCY: Veterans Benefits Administration, Department of Veterans Affairs

ACTION: Notice.

SUMMARY: In compliance with the Paperwork Reduction Act (PRA) of 1995 (44 U.S.C., 3501-3521), this notice announces that the United States Department of Veterans Affairs (VA), has submitted to the Office of Management and Budget (OMB) the following emergency proposal for the collection of information under the provisions of the Paperwork Reduction Act (44 U.S.C. 3507(j)(1)). The reason for the emergency clearance is to continue the use of VA Lender Appraisal Application Certification that is essential to VA's mission. Disruption of the collection of information will harm VBA's efforts to carry out its mission. OMB has been requested to act on this emergency clearance request by February 25, 2005.

DATES: Comments must be submitted on or before February 22, 2005.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-New.”

Send comments and recommendations concerning any aspect of the information collection to VA's OMB Desk Officer, OMB Human Resources and Housing Branch, New Executive Office Building, Room 10235, Washington, DC 20503 (202) 395-7316 or FAX (202) 395-6974. Please refer to “2900-New.”

SUPPLEMENTARY INFORMATION: Title: Lender Appraisal Processing Program Certification, VA Form 26-0785.

OMB Control Number: 2900-New (LAPP).

Type of Review: Existing collection in use without an OMB control number.

Abstract: VA Form 26-0785 is completed by lenders to nominate employees for approval as a VA approved Staff Appraisal Reviewer (SAR). Once approved, SAR's will have the authority to review real estate appraisals and to issue notices of values on behalf of VA. VA uses the information colleted to perform oversight of work delegated to lender responsible for making guaranteed VA backed loans.

Affected Public: Business or other for-profit.

Estimated Annual Burden: 83 hours.

Estimated Average Burden Per Respondent: 5 minutes.

Frequency of Response: On occasion.

Estimated Number of Respondents: 1,000.

Dated: February 9, 2005.
By direction of the Secretary.
Loise Russell,
Director, Records Management Service.

[FR Doc. 05-2907 Filed 2-14-05; 8:45 am]

BILLING CODE 8320-01-P